FEDERAL DEPOSIT INSURANCE CORPORATION

Update to Notice of Financial Institutions for Which the Federal Deposit Insurance Corporation Has Been Appointed Either Receiver, Liquidator, or Manager

AGENCY: Federal Deposit Insurance Corporation.

ACTION: Update Listing of Financial Institutions in Liquidation.

SUMMARY: Notice is hereby given that the Federal Deposit Insurance Corporation (Corporation) has been appointed the sole receiver for the following financial institutions effective as of the Date Closed as indicated in the listing. This list (as updated from time to time in the Federal Register) may be relied upon as “of record” notice that the Corporation has been appointed receiver for purposes of the statement of policy published in the July 2, 1992 issue of the Federal Register (57 FR 29491). For further information concerning the identification of any institutions which have been placed in liquidation, please visit the Corporation Web site at http://www.fdic.gov/bank/individual/failed/banklist.html or contact the Manager of Receivership Oversight in the appropriate service center.

Dated: February 4, 2010.
Federal Deposit Insurance Corporation.
Robert E. Feldman,
Executive Secretary.

Institutions in Liquidation
[In alphabetical order]
FDIC Ref. No. | Bank name | City | State | Date closed
10178 | American Marine Bank | Bainbridge Island | WA | 1/29/2010
10174 | Bank of Leeton | Leeton | MO | 1/22/2010
10171 | Barnes Banking Company | Kaysville | UT | 1/15/2010
10175 | Charter Bank | Santa Fe | NM | 1/22/2010
10176 | Columbia River Bank | The Dalles | OR | 1/22/2010
10180 | Community Bank and Trust | Cornelia | GA | 1/29/2010
10172 | Evergreen Bank | Seattle | WA | 1/22/2010
10179 | First National Bank of Georgia | Carrollton | GA | 1/29/2010
10177 | First Regional Bank | Los Angeles | CA | 1/29/2010
10181 | Florida Community Bank | Immokalee | FL | 1/29/2010
10168 | Horizon Bank | Bellingham | WA | 1/08/2010
10182 | Marshall Bank, N.A. | Hallock | MN | 1/29/2010
10173 | Premier American Bank | Miami | FL | 1/22/2010
10169 | St. Stephen State Bank | St. Stephen | MN | 1/15/2010
10170 | Town Community Bank and Trust | Antioch | IL | 1/15/2010

[FR Doc. 2010-2868 Filed 2-9-10; 8:45 am]

BILLING CODE 6714-01-P